NUCLEAR REGULATORY COMMISSION

[Docket No. 071-9305; NRC-2016-0106]

Nuclear Waste Partnerships, LLC

AGENCY: Nuclear Regulatory Commission.

ACTION: Environmental assessment and finding of no significant impact; issuance.

SUMMARY: The U.S. Nuclear Regulatory Commission (NRC) is issuing an environmental assessment (EA) and finding of no significant impact (FONSI) for an exemption request from the Nuclear Waste Partnerships, LLC, (NWP) for the one-time shipment of transuranic waste in two TRUPACT-III packages from the Savannah River Site (SRS), Aiken, South Carolina, to the Waste Isolation Pilot Plant (WIPP), Carlsbad, New Mexico.

DATES: The EA and FONSI referenced in this document are available on June 2, 2016.

ADDRESSES: Please refer to Docket ID NRC-2016-0106 when contacting the NRC about the availability of information regarding this document. You may obtain publicly-available information related to this document using any of the following methods:

• Federal Rulemaking Web site: Go to http://www.regulations.gov and search for Docket ID NRC-2016-0106. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jessie Muir Quintero, Office of Nuclear Material Safety and Safeguards, U.S. Nuclear Regulatory Commission, Washington, DC 20555-0001; telephone: 301-415-7476; email: Jessie.Muir-Quintero@nrc.gov.

SUPPLEMENTARY INFORMATION:

I. Introduction

The NRC is reviewing a request from NWP (or applicant), dated January 28, 2014 (ADAMS Accession No. ML14035A106), for an exemption—in accordance with section 71.12 of title 10 of the Code of Federal Regulations (10 CFR)— for the one-time transport of two Standard Large Box 2 (SLB2) waste boxes, each in a Model No. TRUPACT-III package.

Specifically, NWP requested an exemption from the requirements in 10 CFR 71.61, “Special requirements for Type B packages containing more than 10⁵A2,” (i.e., deep water immersion test). The applicant requested an exemption from the deep water immersion test because the design of a TRUPACT-III package containing more than 10⁵A2 has not been demonstrated to meet the deep water immersion requirements of 10 CFR 71.61, i.e., the package's undamaged containment system has not been shown that it can withstand an external water pressure of 2 MegaPascal for a period of not less than 1 hour without collapse, buckling, or in-leakage of water.

Along with the exemption request, NWP also requested approval from the NRC for an increase in: (1) The A2 limit from less than 10⁵A2 to 2.1 × 10⁵A2 and (2) the authorized decay heat limit from 80 watts (W) to 190W. The A2 and decay heat limits are established in the TRUPACT-III Certificate of Compliance No. 9305, Revision No. 9 (ADAMS Accession No. ML15201A571).

The TRUPACT-III is a shipping container used to transport transuranic (TRU) waste within an SLB2. The TRUPACT-III packages are front loaded in a horizontal position on custom-designed trailers for truck transport. The two TRUPACT-III packages will be transported by truck from the SRS in South Carolina, to the U.S. Department of Energy WIPP, Carlsbad, New Mexico.

The SLB2 waste boxes have not been loaded into the TRUPACT-III packages yet and are currently sitting on a storage pad at SRS. The contents of each SLB2 waste box is primarily one half of a decommissioned tank used to process Plutonium-238.

II. Environmental Assessment Summary

Under the requirements of 10 CFR 51.21 and 51.30(a), the NRC staff developed an EA (ADAMS Accession No. ML16119A075) to evaluate the proposed federal action, which is for the NRC to grant an exemption to NWP from the deep water immersion test requirements for the one-time transport of two TRUPACT-III packages from SRS to WIPP.

The EA defines the NRC's proposed action (i.e., to grant NWP's exemption request from 10 CFR 71.61) and the purpose of and need for the proposed action. Evaluations of the potential environmental impacts of the proposed action and alternatives to the proposed action were presented, followed by the NRC's conclusion. Alternatives to the proposed action considered included: The no-action alternative (i.e., not granting the exemption); further segmenting the waste; using a different type of package; and storing the waste until the activity decays below 10⁵A2. None of the alternatives are preferable to the proposed action because either the impacts are greater than the proposed action or they do not meet the purpose and need of the proposed action. Therefore, the proposed action is the preferred alternative.

The EA evaluates the potential environmental impacts of granting the exemption of the two subject TRUPACT-III packages from the deep water immersion test. The only potential impacts from granting the exemption would be radiological impacts associated with an accident scenario. However, the analysis in the EA shows that there would be no radiological impacts as a result of exempting these two packages from the deep water immersion test since the packages will not cross bodies of water with depths greater than 15 meters (m) (50 feet [ft]). Any nonradiological impacts would be no greater than those for the transport of any other TRUPACT-III package and would be bounded by previous environmental analysis (NUREG-0170, ADAMS Accession No. ML12192A283). Therefore, the environmental impacts of transporting these two TRUPACT-III packages from SRS to WIPP are still bounded by those impacts documented in NUREG-0170.

III. Finding of No Significant Impact

The NRC staff has prepared an EA and FONSI in support of the proposed action. The EA is available at ADAMS Accession No. ML16119A075. The NRC staff has concluded that the proposed action, for the NRC to grant an exemption to NWP from the deep water immersion test for the transport of two SLB2 waste boxes in Model No. TRUPACT-III packages from SRS to WIPP, will not significantly impact the quality of the human environment, and that the proposed action is the preferred alternative. The environmental impacts of the two packages are bounded by previous NRC environmental analysis since the packages will not cross bodies of water greater than 15 m (50 ft) in depth.

The NRC provided the States of South Carolina and New Mexico a draft copy of this EA for a 30-day review on April 14, 2016 (ADAMS Accession Nos. ML16032A178 and ML16032A175, respectively). The NRC did not receive any comments on the draft EA (ADAMS Accession Nos. ML16134A603 and ML16144A079, respectively).

The NRC staff has determined that the exemption from the deep water immersion test for the two subject packages would have no impact on historic and cultural resources or ecological resources and, therefore, no consultations are necessary under Section 106 of the National Historic Preservation Act and Section 7 of the Endangered Species Act respectively.

The NRC finds that there are no significant environmental impacts from the proposed action, and that preparation of an environmental impact statement is not warranted. Accordingly, the NRC has determined that a FONSI is appropriate.

Dated at Rockville, Maryland, this 26th day of May, 2016.
For the Nuclear Regulatory Commission.
Craig G. Erlanger,
Acting Director, Division of Fuel Cycle Safety, Safeguards, and Environmental Review, Office of Nuclear Material Safety and Safeguards.

[FR Doc. 2016-13014 Filed 6-1-16; 8:45 am]

BILLING CODE 7590-01-P